DEPARTMENT OF THE TREASURY

Internal Revenue Service

Draft Information Quality Guidelines

AGENCY: Internal Revenue Service (IRS), Treasury.

ACTION: Notice and request for comments.

SUMMARY: The IRS is publishing this notice of availability of its draft Information Quality Guidelines on the agency's website at http://www.irs.gov/newsroom/ [“click” on “What's Hot”] to provide an opportunity for the public to comment by June 15, 2002.

DATES: Written comments should be received on or before June 15, 2002, to be assured of consideration.

ADDRESSES: All submissions must be in writing or in electronic form. Please send e-mail comments to Wayne.E.Wiegand@irs.gov, or facsimile transmissions to FAX Number (202) 622-7153 re: IRS Information Quality Guidelines. Comments sent by mail should be sent to: Internal Revenue Service, 1111 Constitution Avenue, NW., Room 3524, Washington, DC 20224, ATTN: Wayne Wiegand (Senders should be aware that there have been some unpredictable and lengthy delays in postal deliveries to the Washington, DC area in recent weeks and may prefer to make electronic submissions.)

FOR FURTHER INFORMATION CONTACT: Wayne Wiegand, Office of the Deputy Commissioner for Modernization/Chief Information Officer, Internal Revenue Service, 1111 Constitution Avenue, Room 3524, Washington, DC 20224. Telephone (202) 927-4412 or by email to Wayne.E.Wiegand@irs.gov.

SUPPLEMENTARY INFORMATION: On January 3, 2002, OMB published guidelines for ensuring and maximizing the quality, objectivity, utility, and integrity of information disseminated by Federal Agencies. These guidelines call upon each agency to develop a draft report not later than May 1, 2002. The IRS will use these guidelines to develop processes for disseminating quality information. The guidelines apply to information disseminated to the public in any medium including textual, graphic, narrative, numerical, or audiovisual forms. This means information that the IRS posts to the Internet as well as sponsored distribution of information to the public. They do not apply to opinions or hyperlinks to information that others disseminate.

Dated: April 26, 2002.
Wayne Wiegand,
Staff Advisor, Modernization & Information Technology Services.

[FR Doc. 02-10780 Filed 4-30-02; 8:45 am]

BILLING CODE 4830-01-P